DEPARTMENT OF THE TREASURY

Office of Foreign Assets Control

Designation of Three Individuals Pursuant to Executive Order 13611

AGENCY: Office of Foreign Assets Control, Treasury.

ACTION: Notice.

SUMMARY: The Department of the Treasury's Office of Foreign Assets Control (“OFAC”) is publishing the names of three individuals whose property and interests in property have been blocked on November 10, 2014 pursuant Executive Order 13611 of May 16, 2012, “Blocking Property of Persons Threatening the Peace, Security, or Stability of Yemen” (E.O. 13611).

DATES: The designation by the Director of OFAC of the three individuals identified in this notice, pursuant to E.O. 13611, was effective on November 10, 2014.

FOR FURTHER INFORMATION CONTACT: Assistant Director, Sanctions Compliance and Evaluation, Office of Foreign Assets Control, Department of the Treasury, Washington, DC 20220, Tel.: 202/622-2490.

SUPPLEMENTARY INFORMATION:

Electronic and Facsimile Availability

This document and additional information concerning OFAC are available from OFAC's Web site (www.treasury.gov/ofac) or via facsimile through a 24-hour fax-on-demand service, Tel.: 202/622-0077.

Notice of OFAC Actions

On November 10, 2014, the Director of OFAC, in consultation with the Department of State, designated, pursuant to one or more of the criteria set forth in section 1 of E.O. 13611, three individuals whose property and interests in property are blocked pursuant to E.O. 13611. The listings of these individuals on OFAC's list of Specially Designated Nationals and Blocked Persons appear as follows:

1. SALEH, Ali Abdullah (a.k.a. SALIH, Ali Abdallah); DOB 21 Mar 1945; alt. DOB 21 Mar 1946; alt. DOB 21 Mar 1942; alt. DOB 21 Mar 1947; POB Bayt al-Ahmar, Sana'a Governorate, Yemen; alt. POB Sana'a, Yemen; nationality Yemen; Gender Male; Passport 00016161 (Yemen) issued 19 Jun 2012 expires 18 Jun 2018; Identification Number 01010744444 (Yemen); President of Yemen's General People's Congress party; Former President of the Republic of Yemen (individual) [YEMEN].

2. AL-HUTHI, Abd al-Khaliq (a.k.a. ABU-YUNUS; a.k.a. AL HUTHI, Abd-al-Khaliq Badr-al-Din; a.k.a. AL-HUTHI, 'Abd al-Khaliq Badr al-Din; a.k.a. AL-HUTHI, Abd-al-Khaliq); DOB 1984; Gender Male; Huthi military commander (individual) [YEMEN].

3. AL HAKIM, Abdullah Yahya (a.k.a. AL HAKIM, Abu Ali; a.k.a. AL-HAKIM, Abdallah; a.k.a. ALHAKIM, Abu Ali; a.k.a. AL-HAKIM, Abu-Ali; a.k.a. AL-MU'AYYAD, Abdallah), Dahyan, Sa'dah Governorate, Yemen; DOB 1985; alt. DOB 1984 to 1986; POB Dahyan, Yemen; alt. POB Sa'dah Governorate, Yemen; nationality Yemen; Gender Male; Huthi group second-in-command (individual) [YEMEN].

Dated: November 10, 2014.
Gregory T. Gatjanis,
Acting Director, Office of Foreign Assets Control.

[FR Doc. 2014-27103 Filed 11-14-14; 8:45 am]

BILLING CODE 4810-AL-P